FEDERAL HOUSING FINANCE AGENCY

12 CFR Part 1254

RIN 2590-AA53

Enterprise Underwriting Standards

AGENCY: Federal Housing Finance Agency.

ACTIONS: Proposed rulemaking; extension of comment period.

SUMMARY: On June 15, 2012, the Federal Housing Finance Agency (FHFA) published in the Federal Register a notice of proposed rulemaking for public comment concerning underwriting standards for the Federal National Mortgage Association (Fannie Mae) and the Federal Home Loan Mortgage Corporation (Freddie Mac), relating to mortgage assets affected by Property Assessed Clean Energy (PACE) programs. The comment period was to end on July 30, 2012 (45 days after publication of the proposal in the Federal Register). This document extends the comment period to September 13, 2012 to allow the public additional time to comment on the proposed rule.

DATES: Written comments must be received on or before September 13, 2012. For additional information, see SUPPLEMENTARY INFORMATION.

ADDRESSES: You may submit your comments, identified by regulatory information number (RIN) 2590-AA53, by any of the following methods:

• Federal eRulemaking Portal: http://www.regulations.gov: Follow the instructions for submitting comments. If you submit your comment to the Federal eRulemaking Portal, please also send it by email to FHFA at RegComments@fhfa.gov to ensure timely receipt by FHFA. Please include “RIN 2590-AA53” in the subject line of the message.

• Email: Comments to Alfred M. Pollard, General Counsel may be sent by email to RegComments@fhfa.gov. Please include “RIN 2590-AA53” in the subject line of the message.

• U.S. Mail, United Parcel Service, Federal Express, or Other Mail Service: The mailing address for comments is: Alfred M. Pollard, General Counsel, Attention: Comments/RIN 2590-AA53, Federal Housing Finance Agency, Eighth Floor, 400 Seventh Street SW., Washington, DC 20024.

• Hand Delivered/Courier: The hand delivery address is: Alfred M. Pollard, General Counsel, Attention: Comments/RIN 2590-AA53, Federal Housing Finance Agency, Eighth Floor, 400 Seventh Street SW., Washington, DC 20024. The package should be logged at the Seventh Street entrance Guard Desk, First Floor, on business days between 9 a.m. and 5 p.m.

FOR FURTHER INFORMATION CONTACT: Alfred M. Pollard, General Counsel, (202) 649-3050 (not a toll-free number), Federal Housing Finance Agency, Eighth Floor, 400 Seventh Street SW., Washington, DC 20024. The telephone number for the Telecommunications Device for the Hearing Impaired is (800) 877-8339.

SUPPLEMENTARY INFORMATION: On June 15, 2012, FHFA published for comment in the Federal Register a proposed rule, and invited comments. See 77 FR 36086. The comment period for the proposed rule was originally scheduled to close on July 30, 2012; but, FHFA determined to extend the comment period an additional 45 days, changing the deadline for submitting comments on the proposed rule from July 30, 2012 to September 13, 2012.

Dated: July 6, 2012.
Edward J. DeMarco,
Acting Director, Federal Housing Finance Agency.

[FR Doc. 2012-17049 Filed 7-11-12; 8:45 am]

BILLING CODE 8070-01-P